DEPARTMENT OF DEFENSE

48 CFR Part 219 and Appendix I to Chapter 2

[DFARS Case 99-D307]

Defense Federal Acquisition Regulation Supplement; Mentor- Protege Program Improvements

Correction

In rule document 00-2946, beginning on page 6554, in the issue of Thursday, February 10, 2000, make the following corrections:

219.7102 [Corrected]

1. On page 6556, in the first column, in section 219.7102(d)(1)(ii), in the sixth line, “SADBU” should read “(SADBU”.

219.7103-2 [Corrected]

2. On the same page, in the same column, in section 219.7103-2(b), in the sixth line, “firms” should read “firm”.

3. On the same page, in the second column, in section 219.7103-2(e) introductory text, in the third line, “cost” should read “costs”.

4. On the same page, in the same column, in section 219.7103-2(f), in the first line, “Authorized” should read “Authorize”.

219.7104 [Corrected]

5. On the same page, in the same column, in section 219.7104(a), in the first line, “Development” should read “Developmental”.

Appendix I—Corrected

6. On page 6557, in the second column in paragraph (c), in the seventh line, “it” should read “if”.

7. On page 6558, in the second column, in paragraph (c)(2)(v), in the first line “an” should read “An”.

8. On the same page, in the same column, in paragraph (f), in the fourth line, after “manager” add “may”.

9. On page 6559, in the second column in paragraph (f)(6), in the fourth line, “Investment” should read “Investments”.ÿ7E

10. On the same page, in the same column, in the third line from the bottom, “the” should read “that”.

11. On the same page, in the third column, in paragraph (d), in the sixth line, “52.232.12” should read “52.232-12”.

12. On the same page, in the same column, in the same paragraph, in the seventh line, “Reimbursements” should read “Reimbursement”.

13. On the same page, in the same column, in the same paragraph, in the ninth line, “FARS” should read “DFARS”.

14. On page 6560, in the first column, in paragraph (e)(1), in the second line, “time” should read “times”.

15. On the same page, in the second column, in pagragraph (l), in the second line, the second “be” should be removed.

16. On the same page, in the third column, in paragraph, (a)(3)(i), in the second line, “assistances” should read “assistance”.

[FR Doc. C0-2946 Filed 5-9-00; 8:45 am]

BILLING CODE 1505-01-D